DEPARTMENT OF COMMERCE

International Trade Administration

[A-570-831]

Fresh Garlic From the People's Republic of China: Amended Final Results of Antidumping Duty Administrative Review; 2010-2011

AGENCY: Enforcement and Compliance, International Trade Administration, Department of Commerce.

SUMMARY: The Department of Commerce (the Department) is amending its final results of the administrative review of the antidumping duty order on fresh garlic from the People's Republic of China (PRC) for the period of review is November 1, 2010, through October 31, 2011.

DATES: Effective May 22, 2017.

FOR FURTHER INFORMATION CONTACT: Kathryn Wallace or Alexander Cipolla, AD/CVD Operations, Office VII, Enforcement and Compliance, International Trade Administration, U.S. Department of Commerce, 1401 Constitution Avenue NW., Washington, DC 20230: telephone: (202) 482-6251 or (202) 482-4956, respectively.

SUPPLEMENTARY INFORMATION: Following the publication of the Final Results, Weifang Hongqiao International Logistics Co., Ltd., Qingdao Xintianfeng Foods Co., Ltd., and Shandong Jinxiang Zhengyang Import and Export Co., Ltd. (collectively, Separate Rate Respondents) challenged the Department's Final Results in the United States Court of International Trade (CIT). In the Final Results, the Department calculated a de minimis rate for the two mandatory respondents, but found that averaging the mandatory respondents' de minimis rates would not be reasonably reflective of the potential dumping margins of the companies not selected for individual examination.¹ The Department found the Separate Rate Respondents eligible for a separate rate, but did not select them for individual examination.² The Department established the dumping margin for the Separate Rate Respondents by applying the most recently-calculated rate under this order, which was not affected by the Department's zeroing methodology, i.e., $1.28 per kilogram, the rate in the 08/09 Garlic NSR.³ The Separate Rate Respondents challenged the Department's selection of the $1.28 per kilogram dumping margin.⁴

¹ IDM at 4.

² IDM at 3-4.

³ Final Results, 78 FR at 36169.

⁴ Weifang Hongqiao International Logistics Co., Ltd. et al. v. United States, Consol. Case No. 13-00228.

On April 14, 2017, the United States, the Separate Rate Respondents, and the petitioner ⁵ entered into an agreement to settle this dispute. On April 17, 2017, the United States, the Separate Rate Respondents, and the petitioner filed a stipulation for entry of judgment with the CIT. On April 19, 2017, the CIT entered judgment by stipulation. Consistent with the settlement agreement and the judgment by stipulation, these Amended Final Results assign each Separate Rate Respondent a $0.00 per kilogram dumping margin for the POR. The Amended Final Results make no other modification to the Department's findings in the Final Results.

⁵ The Fresh Garlic Producers Association and its individual members, Christopher Ranch, LLC, the Garlic Company, Valley Garlic, and Vessey and Company, Inc.

Within fifteen days of publication of these Amended Final Results, we will instruct U.S. Customs and Border Protection to liquidate all unliquidated entries of fresh garlic from the PRC produced and/or exported by Weifang Hongqiao International Logistics Co., Ltd., Qingdao Xintianfeng Foods Co., Ltd., and Shandong Jinxiang Zhengyang Import and Export Co., Ltd., and entered, or withdrawn from warehouse, for consumption in the United States during the POR at the assessment rate of $0.00 per kilogram.

We are issuing and publishing these Amended Final Results of review and notice in accordance with section 516A(e) of the Act.

Dated: May 15, 2017.
Ronald K. Lorentzen,
Acting Assistant Secretary for Enforcement and Compliance.

[FR Doc. 2017-10350 Filed 5-19-17; 8:45 am]

BILLING CODE 3510-DS-P